DEPARTMENT OF LABOR

Office of the Secretary

Agency Information Collection Activities; Submission for OMB Review; Comment Request; Information Collections Pertaining to Special Employment Under the Fair Labor Standards Act

ACTION: Notice.

SUMMARY: The Department of Labor (DOL) hereby announces the submission of the Wage and Hour Division (WHD) sponsored information collection request (ICR) titled, “Information Collections Pertaining to Special Employment Under the Fair Labor Standards Act,” to the Office of Management and Budget (OMB) for review and approval for use, as revised, in accordance with the Paperwork Reduction Act of 1995 (Pub. L. 104-13, 44 U.S.C. chapter 35).

DATES: Submit comments on or before February 28, 2011.

ADDRESSES: A copy of this ICR, with applicable supporting documentation; including a description of the likely respondents, proposed frequency of response, and estimated total burden may be obtained from the RegInfo.gov Web site, http://www.reginfo.gov/public/do/PRAMain or by contacting Michel Smyth by telephone at 202-693-4129 (this is not a toll-free number) or sending an e-mail to DOL_PRA_PUBLIC@dol.gov.

Submit comments about this request to the Office of Information and Regulatory Affairs, Attn: OMB Desk Officer for the Department of Labor, Wage and Hour Division (WHD), Office of Management and Budget, Room 10235, Washington, DC 20503, Telephone: 202-395-6929/Fax: 202-395-6881 (these are not toll-free numbers), e-mail: OIRA_submission@omb.eop.gov.

FOR FURTHER INFORMATION CONTACT: Contact Michel Smyth by telephone at 202-693-4129 (this is not a toll-free number) or by e-mail at DOL_PRA_PUBLIC@dol.gov.

SUPPLEMENTARY INFORMATION: This information collection pertains to the Fair Labor Standards Act (FLSA), 29 U.S.C. 201, et seq., special employment provisions. These provisions relate to restrictions on industrial homework and to the use of special certificates that allow for the employment of categories of workers who may be paid less than the statutory minimum wage to the extent necessary to prevent curtailment of their employment opportunities. The DOL, in order to better manage its information collections, proposes to merge a number of related information collections cleared under various OMB Control Numbers into a single collection. Control Number 1235-0001 will be the survivor.

This information collection is subject to the PRA. A Federal agency generally cannot conduct or sponsor a collection of information, and the public is generally not required to respond to an information collection, unless it is currently approved by the OMB under the PRA and displays a currently valid OMB Control Number. In addition, notwithstanding any other provisions of law, no person shall generally be subject to penalty for failing to comply with a collection of information if the collection of information does not display a currently valid OMB control number. See 5 CFR 1320.5(a) and 1320.6. The DOL currently has obtained OMB approval for these information collections under OMB Control Numbers 1235-0001, 1235-0019, 1235-0020, and 1235-0022. The current OMB approval for one Control Number affected by this request, 1235-0020, is scheduled to expire on January 31, 2011; however, it should be noted that information collections submitted to the OMB receive a month-to-month extension while they undergo review. For additional information, see the related notice published in the Federal Register on June 2, 2010 (75 FR 30861).

Interested parties are encouraged to send comments to the OMB, Office of Information and Regulatory Affairs at the address shown in the ADDRESSES section within 30 days of publication of this notice in the Federal Register. In order to ensure appropriate consideration, comments should reference ICR Reference Number 201004-1235-003. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Wage and Hour Division (WHD).

Title of Collection: Information Collections Pertaining to Special Employment Under the Fair Labor Standards Act.

OMB Control Number: 1235-0001 (as merged with 1235-0019, 1235-0020, 1235-0022).

Affected Public: Private sector—businesses or other for-profits and not-for-profit institutions.

Total Estimated Number of Respondents: 307,610

Total Estimated Number of Responses: 1,225,725.

Total Estimated Annual Burden Hours: 626,984.

Total Estimated Annual Costs Burden: $2,587.

Dated: January 24, 2011.
Michel Smyth,
Departmental Clearance Officer.

[FR Doc. 2011-1943 Filed 1-27-11; 8:45 am]

BILLING CODE 4510-27-P